DEPARTMENT OF ENERGY

Federal Energy Regulatory Commission

Combined Notice of Filings #2

Take notice that the Commission received the following exempt wholesale generator filings:

Docket Numbers: EG16-86-000.

Applicants: Oliver Wind III, LLC.

Description: Notice of Self-Certification of Exempt Wholesale Generator Status of Oliver Wind III, LLC.

Filed Date: 4/8/16.

Accession Number: 20160408-5206.

Comments Due: 5 p.m. ET 4/29/16.

Take notice that the Commission received the following electric rate filings:

Docket Numbers: ER10-2437-004.

Applicants: Arizona Public Service Company.

Description: Market Power Analysis for the Energy Imbalance Market of Arizona Public Service Company.

Filed Date: 4/8/16.

Accession Number: 20160408-5151.

Comments Due: 5 p.m. ET 6/7/16.

Docket Numbers: ER16-999-001.

Applicants: Greenleaf Energy Unit 1 LLC.

Description: Tariff Amendment: Greenleaf Energy Unit 1 LLC Response to Staff Request to be effective 2/24/2016.

Filed Date: 4/8/16.

Accession Number: 20160408-5189.

Comments Due: 5 p.m. ET 4/29/16.

Docket Numbers: ER16-1368-000.

Applicants: PJM Interconnection, L.L.C.

Description: § 205(d) Rate Filing: Amendment to WMPA SA No. 4299, Queue No. AA2-072 per Assignment to WGL Energy to be effective 10/13/2015.

Filed Date: 4/8/16.

Accession Number: 20160408-5123.

Comments Due: 5 p.m. ET 4/29/16.

Docket Numbers: ER16-1369-000.

Applicants: Commonwealth Edison Company, PJM Interconnection, L.L.C.

Description: § 205(d) Rate Filing: ComEd submits revisions to OATT Attachment H-13 to remove charge to Energy Vault to be effective 4/8/2016.

Filed Date: 4/8/16.

Accession Number: 20160408-5165.

Comments Due: 5 p.m. ET 4/29/16.

Docket Numbers: ER16-1370-000.

Applicants: Northern States Power Company, a Minnesota corporation.

Description: Notice of Cancellation of Rate Schedule No. 342 between N Northern States Power Company, a Minnesota corporation and Great River Energy.

Filed Date: 4/8/16.

Accession Number: 20160408-5194.

Comments Due: 5 p.m. ET 4/29/16.

Docket Numbers: ER16-1371-000.

Applicants: 63SU 8ME LLC.

Description: Baseline eTariff Filing: Baseline New to be effective 6/7/2016.

Filed Date: 4/8/16.

Accession Number: 20160408-5212.

Comments Due: 5 p.m. ET 4/29/16.

Docket Numbers: ER16-1372-000.

Applicants: Nevada Power Company.

Description: § 205(d) Rate Filing: Rate Schedule No. 117 1st Amded Restated Agr. NPC/SPPC/Great Basin South Refiled to be effective 1/1/9998.

Filed Date: 4/8/16.

Accession Number: 20160408-5241.

Comments Due: 5 p.m. ET 4/29/16.

Docket Numbers: ER16-1373-000.

Applicants: PJM Interconnection, L.L.C.

Description: § 205(d) Rate Filing: Amendment to ISA SA No. 3165, Queue No. W2-019 to be effective 11/28/2011.

Filed Date: 4/8/16.

Accession Number: 20160408-5244.

Comments Due: 5 p.m. ET 4/29/16.

Docket Numbers: ER16-1374-000.

Applicants: San Diego Gas & Electric Company.

Description: § 205(d) Rate Filing: Implementation of CPUC Vehicle Grid Integration Pilot Program Volumetric Rate to be effective 6/7/2016.

Filed Date: 4/8/16.

Accession Number: 20160408-5291.

Comments Due: 5 p.m. ET 4/29/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 8, 2016.
Nathaniel J. Davis, Sr.,
Deputy Secretary.

[FR Doc. 2016-08602 Filed 4-13-16; 8:45 am]

BILLING CODE 6717-01-P